DEPARTMENT OF AGRICULTURE

Forest Service

Payette National Forest, Idaho; Huckleberry Landscape Restoration Project

AGENCY: Forest Service, USDA.

ACTION: Notice of intent to prepare an environmental impact statement.

SUMMARY: The Payette National Forest will prepare an Environmental Impact Statement (EIS) for the Huckleberry Landscape Restoration Project. The Huckleberry Landscape Restoration Project is located approximately 15 miles west of New Meadows, Idaho. Proposed treatments include timber harvest, thinning, prescribed fire, road treatments and road decommissioning, and recreation improvements. The Huckleberry project area is approximately 67,000 acres within the Council Ranger District on the Payette National Forest. The project is located in the Indian, Lick, and Bear Creek subwatersheds within the Brownlee Reservoir Subbasin.

DATES: Comments concerning the scope of the analysis must be received by November 14, 2016. The draft environmental impact statement is expected late April 2017 and the final environmental impact statement is expected January 2018.

ADDRESSES: Send written comments to: Keith Lannom, Forest Supervisor, 500 N. Mission Street, Building 2, McCall, Idaho 83638. Comments may also be sent via email to comments-intermtn-payette@fs.fed.us, or via facsimile to 208-634-0744.

Comments may also be submitted through the Huckleberry Landscape Restoration Project Web page at http://www.fs.usda.gov/project/?project=50218. To submit comments using the web form select “Comment/Object on Project” under “Get Connected” on the right panel of the project's Web page.

A public meeting will be held October 18th, 2016, from 4 to 6 p.m. at the Council Ranger District Office, 2092 Highway 95, Council, Idaho, 208-253-0100.

FOR FURTHER INFORMATION CONTACT: Kim Pierson, New Meadows District Ranger, 208-347-0300, kpierson@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Huckleberry Landscape Restoration Project is to: A. Move vegetation toward the desired conditions defined in the Forest Plan and the most recent science addressing restoration and management of wildlife habitat, with an emphasis on: (1) Improving habitat for specific wildlife species of concern such as the Endangered Species Act (ESA)-listed northern Idaho ground squirrel (NIDGS) and species dependent on dry coniferous forests (e.g. white-headed woodpecker), while maintaining habitat for other Forest sensitive and ESA-listed species; (2) Maintaining and promoting large tree forest structure, early seral species composition (e.g. example aspen, western larch, ponderosa pine, and Douglas-fir) and forest resiliency; (3) Reducing the risk of uncharacteristic and undesirable wildland fire, with an emphasis on restoring and maintaining desirable plant community attributes including fuel levels, fire regimes, and other ecological processes. (4) Moving forest stands toward desired conditions as described in the Forest Plan by returning fire to the ecosystem; promoting the development of large tree forest structures mixed with a mosaic of size classes; and improving growth, species composition, and resiliency to insects, disease, and fire.

B. Support the development of fire-adapted rural communities by: (1) Creating conditions that provide firefighters a higher probability of successfully suppressing fire in the wildland urban interface by reducing potential fire behavior near values at risk (e.g., homes, communication towers, and power lines) and primary ingress/egress routes, essential to firefighter access and the public. (2) Creating conditions where rural communities are less reliant on suppression forces.

C. Move all subwatersheds within the project area toward the desired conditions for soil, water, riparian, and aquatic resources (SWRA) as described in the Forest Plan and the Watershed Condition Framework (WCF) (USDA 2011) by: (1) Reducing overall road density, road-related accelerated sediment, and other road related impacts across the project area; restoring riparian vegetation and floodplain function. (2) Restoring fish habitat connectivity across the project area, especially in streams occupied by ESA Listed bull trout, (Salvelinus confluentus) and in or adjacent to bull trout Critical Habitat.

D. Manage recreation use with an emphasis on hardening (where needed) dispersed recreation sites for resource improvement, and improving existing trail opportunities.

E. Contribute to the economic vitality of the communities adjacent to the Payette National Forest.

The need for the project is based on the difference between the existing and desired conditions. These differences include: (1) Less large tree size class than desired and higher canopy cover; (2) Fewer early seral species (i.e. ponderosa pine and western larch); (3) Fewer fire resilient species than desired; (4) Increase in ground, surface, and canopy fuels; (5) Less than desired watershed function and integrity.

The desired conditions for this project are based upon the Payette National Forest Plan (USDA Forest Service 2003), and the Watershed Condition Framework (USDA Forest Service 2011).

Proposed Action

The Proposed Action includes: Vegetative Treatments: The Forest Service proposes approximately 42,600 acres of vegetative treatments in the project area. This acreage includes the treatments designed to benefit Northern Idaho Ground Squirrels (NIDGS) and treatments within Riparian Conservation Areas (RCAs). Of the acres proposed for vegetative treatment, 1,400 acres are within RCAs. Approximately 9,000 acres are in areas designed to mitigate fire risk to values at risk. Commercial Vegetative Treatments: The Forest Service proposes to treat up to 23,800 acres with commercial harvests (a combination of Free Thin, Free Thin-Patch Cut-Selection Harvest, Aspen Restoration, and Mature Plantation Harvest). Combined commercial and non-commercial vegetation treatments include up to 11,800 acres of meadow restoration, 1,500 acres Restoration of Low Density Timber Stands and 600 acres of Whitebark pine restoration. These acreages includes treatments designed for and within RCAs. Approximately, 1,400 acres are commercial treatments (as described below) within RCAs. Non-Commercial Treatments—approximately 42,500 acres. Non-commercial thinning would be completed in areas of commercial harvest as well as outside of commercial harvest. This would consist of trees generally less than ten inches DBH and include plantations. Non-commercial thinning would be completed to improve wildlife habitat, increase growth rates and tree vigor, improve stand resiliency to natural disturbance, reduce density-related competition, reduce potential fire behavior and fire effects given a wildland fire.

Prescribed Fire Treatments: The entire project area, (approximately 67,000 acres, excluding the Bear Creek RNA), would be treated with prescribed fire over the next 20 years (see Prescribed Fire and Community Wildfire Mitigation Map). Commercial activities would generally be completed prior to the application of fire, except where the application of fire prior to thinning does not affect commercial activities. Re-introducing 500 to 10,000 acres of fire annually would move forested and non- forested vegetation towards conditions that more closely represent historic distribution, structure, and function as well as limit potential fire behavior. A mosaic-like application of fire would re-introduce fire to approximately 75 percent of primary target acres, and 50 percent of secondary target acres. These percentages recognize the variability in the spread of fire across a landscape due to various environmental influences. All acres targeted for the application of fire would be available for noncommercial thinning in order to minimize mortality from prescribed fire and aid in moving towards restored conditions.

Watershed Improvement and Restoration Treatments: (1) System road treatments proposed throughout the project area include maintenance and/or improvement of Forest system roads where needed. Approximately 57.7 miles of system roads would be decommissioned. All roads closed to the public would receive implementation of effective closure to motorized use. All unauthorized routes not needed for future management would also be evaluated for some level of restoration treatments. (2) Unauthorized Route Treatments—Restoration treatments are proposed for unauthorized routes, although the exact mileage of unauthorized route treatments have not been determined at this time. It is anticipated that between 60 and 80 miles would be treated. (3) Aquatic Organism Passage/Fish Habitat Connectivity—Improvements to Fish Passage are needed to address the purpose and need of the project. Thirteen road-crossings have been identified in the project area to improve fish passage and improve hydrologic connectivity. In the Indian Creek subwatershed, of which the upper portion is identified as a restoration priority under and ACS, 6 crossings would be improved (crossings would be replaced with appropriate structures or removed with the associated road restoration treatments. These proposed improvements would address all of the known man-made barriers on fish bearing streams in the subwatershed. In the Bear Creek subwatershed, (of which the upper portion is identified as an ACS priority), one crossing is identified for improvement. This would address the only known man-made barrier on a fish-bearing stream in the portion of the Bear Creek subwatershed included in the project area. Past restoration activities have addressed many of the fish passage barriers in the Bear Creek subwatershed. In the Lick Creek subwatershed, 6 crossings are identified for improvement on tributaries of Lick Creek. These crossings would be replaced with appropriate structures or removed with other road restoration treatments. Crossings should be replaced as road work and project activities occur in these areas to improve fish habitat connectivity, and improve hydrologic connectivity. (4) Trail Bridges for Fish Habitat Improvement—In the Bear Creek subwatershed, 2 trail bridges are proposed on FS Trail 228 where the trail crosses Mickey Creek and Wesley Creek. Both of these streams are Bull Trout Critical Habitat. Bridges over these streams would reduce impacts of trail use (from 2-wheeled motorized, non-motorized and stock) to bull trout and their critical habitat. A trail bridge currently is in place near the FS 228 Trailhead where the trail crosses Bear Creek, which is also critical habitat.

Recreation Improvements: The recreation proposal focuses on improving existing developed and dispersed recreation opportunities and facilities, trail maintenance and relocation to improve watershed conditions and the recreational user's experience. The Huckleberry Landscape Restoration Project would: (1) Developed and Dispersed Recreation: (a) Improve the potable water well, increase the radius of the turnaround loop to accommodate larger trailers and RVs, and replace the entire fence with split rail/buck and rail at the Huckleberry Campground; (b) Coordinate dispersed camping along roads open to motorized travel 300 feet off the road, with wildlife in areas where there is a conflict with the NIDGS: (c) On Forest Road 143 (Lick Creek Road) where it enters the Forest, add a travel management sign that state the road is open to dispersed camping using a motorized vehicle in designated sites only; (d) Harden dispersed camping sites identified with resource issues; (e) Place rock barriers in sites identified with a need to restrict further growth; (f) Decommission existing restroom facility and install a new single vault restroom at the Bear trailhead, along with three fire rings and two metal stock hitch rails. (2) Trails: (a) Bring the 33 miles of trails consisting of two-wheel motorized and non-motorized trail up to defined trail class standard for each trail. This includes signing at all trail junctions, new signing at trailheads lacking proper signs, and trail reestablishment and potential relocation where the trail is undefinable; (b) Improve the Hoo Hoo Gulch 50144 road accessing the #231 trail to accommodate the hauling of a stock trailer. This includes brushing both sides of the road, and performing major road maintenance on the road surface. At the trailhead (location of the closed gate) construct a turn-around large enough to accommodate and truck pulling a horse trailer. Add one metal stock hitch rail and an information trailhead kiosk sign to the trailhead. Relocate portions of the #231 trail above the current roadbed; (c) Relocate and re-establish portions of the non-motorized #229 trail that accesses the Lick Creek Lookout. Establish a trailhead to accommodate two vehicles and one horse trailer at the place the 50129 road turns to seasonal use. Install an informational trailhead kiosk and trail sign. (Note: The seasonally open road beyond this gate could be closed year-round as it only goes an additional ½ mile and is not needed for recreational access. It only serves to bring unauthorized motorized use into the closed road system above); (d) Establish a small pullout for parking for the non-motorized #226 trail. Install a trailhead sign.

E. Wildlife Habitat Improvements: Changes in forested conditions, fire regimes, and the presence of roads have altered wildlife habitats. Some modifications to habitat have led to the federal listing of terrestrial wildlife species such as northern Idaho ground squirrel (NIDGS). A primary need Forest-wide and in the project area is to maintain and promote dry, lower elevation, large tree, and old forest habitats for the associated wildlife species including reducing road densities and fragmentation that negatively affect elk and other Forest species of concern. The processes, function, patch size and diversity of forested habitats must all be considered in order to properly address wildlife habitat needs. Examples of habitat improvement include: (1) Enhance habitat components that will support sustainable elk populations consistent with the Forest Plan. This includes the best available science to move the project landscape towards the recommended road density and elk security habitat guidelines (e.g. effective seasonal gate closures). One potential method of moving towards effective road densities and enhancing elk security habitat is to target road closures in areas where there is route redundancy. (2) Maintain or restore a representative, resilient and redundant network of habitats for species of greatest conservation concern (e.g. northern Idaho ground squirrel, white-headed woodpecker, northern goshawk, etc.).

F. Community Wildfire Mitigation Treatments: Both, fuel loading and fuel continuity would be altered to reduce surface fire potential as well as crown fire potential among the community wildfire mitigation treatment areas (see Prescribed Fire Treatments and Community Wildfire Mitigation Map). This would provide suppression forces a higher probability of successfully attacking a wildland fire within intermix or rural condition while creating a safer working environment. A combination of non-commercial thinning, commercial thinning, limbing to reduce ladder fuels, piling dead and downed material, pile burning, and/or prescribed burning would facilitate the desired condition. More specifically, activities would result in the following: (1) Increased canopy base heights to reduce potential for spotting, torching, and crown fire; (2) Reduced canopy densities to reduce the potential for crown fire spread; (3) Reduced species that are not fire-resilient to promote fire-resilient stands; (4) Reduced ground and surface fuels. Recurrent application of the necessary treatments (primarily prescribed fire) every 5-15 years would maintain the desired condition, which is lower fuel loadings and reduced horizontal fuel continuity.

Responsible Official

The Forest Supervisor of the Payette National Forest is the Responsible Official.

Nature of Decision To Be Made

Based on the purpose and need for the proposed action, the Responsible Official will determine whether to proceed with the action, as proposed, as modified by another alternative or not at all. If an action alternative is selected, the Responsible Official will determine what design features, mitigation measures and monitoring requirements are included in the decision.

Addresses

Additional project information is available on the project page of the Payette National Forest Web site at: http://www.fs.usda.gov/project/?project=50218.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this project. Comments submitted anonymously however will also be accepted and considered.

Dated: September 26, 2016.
Keith B. Lannom,
Payette National Forest Supervisor.

[FR Doc. 2016-23650 Filed 9-29-16; 8:45 am]

BILLING CODE 3411-15-P